DEPARTMENT OF COMMERCE

Submission for OMB Review; Comment Request

The Department of Commerce will submit to the Office of Management and Budget (OMB) for clearance of the following proposal for collection of information under the provisions of the Paperwork Reduction Act (44 U.S.C. Chapter 35).

Agency: National Telecommunications and Information Administration (NTIA).

Title: State Broadband Data and Development (SDBB) Grant Program Progress Report.

OMB Control Number: 0660-0034.

Form Number(s): None.

Type of Request: Regular submission (revision of a currently approved information collection).

Number of Respondents: 56.

Average Hours per Response: 4 hours.

Burden Hours: 896.

Needs and Uses: The American Recovery and Reinvestment Act of 2009 (Recovery Act), Public Law 111-5 (2009), required the Assistant Secretary of Commerce for Communications and Information to develop and maintain a comprehensive, interactive, and searchable nationwide inventory map of existing broadband service capability and availability in the United States that depicts the geographic extent to which broadband service capability is deployed and available from a commercial or public provider throughout each state.

NTIA developed the State Broadband Data and Development (SBDD) Grant Program (74 FR 32545), a competitive, merit-based matching grant program funding projects that collect comprehensive and accurate State-level broadband mapping data, develop State-level broadband maps, aid in the development and maintenance of a national broadband map, and fund statewide initiatives directed at broadband planning and capacity building.

NTIA requires quarterly performance progress reports (PPRs) in order to gauge the progress of grantees in meeting their project goals.

NTIA has identified a need to modify its existing PPR format by making minor changes to existing questions and adding new questions to improve clarity, reduce the frequency with which some information is reported, and delete certain items that are not necessary for effective performance monitoring. This modification will improve the quality of recipients' responses and enable NTIA to better monitor and assess the extent to which the recipients are meeting program goals and milestones.

Affected Public: State government; not-for-profit institutions.

Frequency: Quarterly.

Respondent's Obligation: Required to obtain or retain benefits.

OMB Desk Officer: Nicholas Fraser, (202) 395-5887.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to Nicholas Fraser, OMB Desk Officer, Fax number (202) 395-7285, or via the Internet at Nicholas_A._Fraser@omb.eop.gov).

Dated: June 27, 2012.
Gwellnar Banks,
Management Analyst, Office of the Chief Information Officer.

[FR Doc. 2012-16226 Filed 7-2-12; 8:45 am]

BILLING CODE 3510-06-P